DEPARTMENT OF THE TREASURY

Office of Thrift Supervision

[AC-58 OTS No. 01292 and H 4762]

Fraternity Federal Savings & Loan Association, Baltimore, MD; Approval of Conversion Application

Notice is hereby given that on February 10, 2011, the Office of Thrift Supervision approved the application of Fraternity FS&LA, Baltimore, Maryland, to convert to the stock form of organization. Copies of the application are available for inspection by appointment (phone number: (202) 906-5922 or e-mail: public.info@ots.treas.gov) at the Public Reading Room, 1700 G Street, NW., Washington, DC 20552, and the OTS Southeast Regional Office, 1475 Peachtree Street, NE., Atlanta, Georgia 30309.

Dated: February 10, 2011.
By the Office of Thrift Supervision.
Sandra E. Evans,
Federal Register Liaison.

[FR Doc. 2011-3562 Filed 2-16-11; 8:45 am]

BILLING CODE 6720-01-M